DEPARTMENT OF LABOR

Employment and Training Administration

[TA-W-82,213; TA-W-82,213A]

CompuCom Systems, Inc., Tewksbury, Massachusetts; CompuCom Systems, Inc. Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on March 12, 2013, applicable to workers of CompuCom Systems, Inc., Tewksbury, Massachusetts. The workers are engaged in activities related to the supply of information technology outsourcing services. Specifically, the workers are subcontractors working in a call center and provide client support for help desk, local area networks (LAN) and wide area networks (WAN) project consulting and asset tracking. The notice was published in the Federal Register on April 1, 2012 (78 FR 19532).

At the request of the State agency, the Department reviewed the certification for workers of the subject firm. New information shows that the Houston, Texas and Tewksbury, Massachusetts locations of CompuCom Systems are engaged in activities related to the supply of information technology outsourcing services, and both experienced worker separations during the relevant time period due to increased imports of these various IT services.

Accordingly, the Department is amending the certification to include workers of the Houston, Texas location of CompuCom Systems, Inc.

The amended notice applicable to TA-W-82,213 is hereby issued as follows:

“All workers of CompuCom Systems, Inc., Tewksbury, Massachusetts (TA-W-82,213) and CompuCom Systems, Inc., Houston, Texas (TA-W-82,213A), who became totally or partially separated from employment on or after December 4, 2011, through March 12, 2015, and all workers in the group threatened with total or partial separation from employment on the date of certification through two years from the date of certification, are eligible to apply for adjustment assistance under Chapter 2 of Title II of the Trade Act of 1974, as amended,”

Signed in Washington, DC, this 5th day of July, 2013.
Michael W. Jaffe,
Certifying Officer, Office of Trade Adjustment Assistance.

[FR Doc. 2013-19181 Filed 8-7-13; 8:45 am]

BILLING CODE 4510-FN-P